DEPARTMENT OF HEALTH AND HUMAN SERVICES

National Institutes of Health

Center for Scientific Review; Amended Notice of Meeting

Notice is hereby given of a change in the meeting of the Center for Scientific Review Special Emphasis Panel, January 23, 2018, 1:00 p.m. to January 23, 2018, 5:00 p.m., National Institutes of Health, 6701 Rockledge Drive, Bethesda, MD 20892 which was published in the Federal Register on January 03, 2018, 83 FR PG 387.

The meeting will be held on March 7, 2018 at 1:00 and end at 3:30. The meeting location remains the same. The meeting is closed to the public.

Dated: January 29, 2018.
Melanie J. Pantoja,
Program Analyst, Office of Federal Advisory Committee Policy.

[FR Doc. 2018-02032 Filed 1-31-18; 8:45 am]

BILLING CODE 4140-01-P